DEPARTMENT OF HEALTH AND HUMAN SERVICES

Administration for Community Living

Reallotment of FY 2019 Funds

AGENCY: Administration on Disabilities (AoD), Administration for Community Living (ACL), U.S. Department of Health and Human Services (HHS).

ACTION: Notice of reallotment of FY 2019 funds.

AOD intends to reallot funds under the authority of Section 122(e) and Section 142(a)(1) of the Development Disabilities Assistance and Bill of Rights Act of 2000, (Pub. L. 106-402) which states: “If the Secretary determines that an amount of an allotment to a State for a period (of a fiscal year or longer) will not be required by the State during the period for the purpose for which the allotment was made, the Secretary may reallot the amount.”

AOD will be reallotting FY 2019 funds awarded to the State Council on Developmental Disabilities (SCDD) located within the Commonwealth of Puerto Rico. This determination is based on the limited reported expenditures and requests for reimbursement over the last several years from the SCDD in the Commonwealth of Puerto Rico.

The Puerto Rico SCDD will have up to $2 million rescinded and proportionately redistributed to the remaining SCDDs. SCDDs that receive FY 2019 realloted funds will have through the end of FY 2020 to obligate the funds and until the end of FY 2021 to liquidate the funds.

Realloted funds for the SCDDs must be used according to the terms as outlined in the FY 2019 Notice of Award for each program.

DATES: Funds will be realloted after August 15, 2019 and before September 30, 2019.

FOR FURTHER INFORMATION CONTACT: Allison Cruz, Office of Intellectual and Developmental Disabilities, Administration on Disabilities, Administration for Community Living, 330 C St. SW, Washington, DC 20201. Telephone (202) 795-7408. Email allison.cruz@acl.hhs.gov. Please note the telephone number is not toll free. This document will be made available in alternative formats upon request. Written correspondence can be sent to Administration for Community Living, U.S. Department of Health and Human Services, 330 C St. SW, Washington, DC 20201.

Dated: July 25, 2019.
Julie E. Hocker,
Commissioner, Administration on Disabilities.

[FR Doc. 2019-16546 Filed 8-1-19; 8:45 am]

BILLING CODE 4154-01-P